DEPARTMENT OF COMMERCE

National Oceanic and Atmospheric Administration

RIN 0648-XC038

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's (Council) Mackerel, Squid, and Butterfish Committee and Mackerel, Squid, and Butterfish Advisory Panel will hold a public meeting.

DATES: The meeting will be held on June 8, 2012 from 9 a.m. until noon.

ADDRESSES: The meeting will be held via webinar with a physical listening station also available at the Council office, 800 N. State Street, Suite 201, Dover, DE 19901; telephone: (302) 674-2331. The webinar registration link is: https://www1.gotomeeting.com/register/126160849.

FOR FURTHER INFORMATION CONTACT: Christopher M. Moore Ph.D., Executive Director, Mid-Atlantic Fishery Management Council, 800 N. State Street, Suite 201, Dover, DE 19901; telephone: (302) 526-5255.

SUPPLEMENTARY INFORMATION: The primary purposes of the meeting are to review the alternatives for Amendment 14 to the Atlantic Mackerel, Squid, and Butterfish Fishery Management Plan, review public comments received, and get input from the Advisory Panel. Public comment will be taken, but there is a written comment opportunity available through June 4 (http://www.mafmc.org/fmp/msb_files/msbAm14current.htm) and there will be an additional opportunity for public comment at the June Council meeting (agenda will be posted at www.mafmc.org).

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: May 18, 2012.
Tracey L. Thompson,
Acting Director, Office of Sustainable Fisheries, National Marine Fisheries Service.

[FR Doc. 2012-12496 Filed 5-22-12; 8:45 am]

BILLING CODE 3510-22-P